DEPARTMENT OF ENERGY

Federal Energy Regulatory Commission

[Docket No. CP18-548-000]

Eastern Shore Natural Gas Company; Notice of Schedule for Environmental Review of the Del-Mar Energy Pathway Project

On September 14, 2018, Eastern Shore Natural Gas Company (Eastern Shore) filed an application in Docket No. CP18-548-000 requesting a Certificate of Public Convenience and Necessity pursuant to Section 7(c) of the Natural Gas Act to construct and operate certain natural gas pipeline facilities. The proposed project is known as the Del-Mar Energy Pathway Project (Project), and would provide about 11.8 million cubic feet per day of additional natural gas firm transportation and 2.5 million cubic feet per day of off-peak transportation service to three local distribution companies and one industrial shipper.

On September 27, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 1, 2019.

90-day Federal Authorization Decision Deadline—June 30, 2019.

If a schedule change becomes necessary, additional notice will be provided so that the relevant agencies are kept informed of the Project's progress.

Project Description

Eastern Shore proposes to construct and operate new natural gas pipelines and meter and delivery stations in Kent and Sussex Counties, Delaware, and Wicomico and Somerset Counties, Maryland.

The Project would consist of construction and operation of the following facilities:

Woodside Loop ¹ Kent County, Delaware

• 4.9 miles of new 16-inch-diameter pipeline looping its existing pipeline.

¹ A pipeline loop is a segment of pipe constructed parallel to an existing pipeline to increase capacity.

East Sussex Extension Sussex County, Delaware

• 7.39 miles of new 8-inch-diameter mainline extension to the existing Milford Line;

• one aboveground pig launcher and one pig receiver,² and aboveground mainline valve; and

² A “pig” is a tool that the pipeline company inserts into and pushes through the pipeline for cleaning the pipeline, conducting internal inspections, or other purposes.

• one new delivery metering and regulation (M&R) station.

Millsboro Pressure Control Station Upgrade Millsboro, Sussex County, Delaware

• 0.35 mile of 10-inch-diameter pipeline extension between the existing Millsboro Pressure Control Station and the existing Milford Line; and

• a dual run pressure control addition to the existing Millsboro Pressure Control Station with modifications to the existing piping, valves, and associated electronic transmitters.

Somerset Extension Wicomico and Somerset Counties, Maryland

• 6.83 miles of new 10-inch-diameter pipeline extension to the existing Parkesburg Line;

• one aboveground pig launcher and one pig receiver, and aboveground mainline valve; and

• one new delivery M&R station at the Somerset Extension terminus.

Background

On November 2, 2018 the Commission issued a Notice of Intent to Prepare an Environmental Assessment for the Proposed Del-Mar Energy Pathway Project, Request for Comments on Environmental Issues, Notice of Public Scoping Session, and Notice of Onsite Review (NOI). The NOI was sent to affected landowners; federal, state, and local government agencies; elected officials; environmental and public interest groups; Native American tribes; other interested parties; and local libraries and newspapers. Comments on the NOI should be received by the Commission in Washington, DC on or before 5:00 p.m. Eastern Time on December 3, 2018. All substantive comments received at the scoping session or filed in the Commission's public record will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-548), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 20, 2018.
Kimberly D. Bose,
Secretary.

[FR Doc. 2018-25804 Filed 11-26-18; 8:45 am]

BILLING CODE 6717-01-P